NATIONAL FOUNDATION ON THE ARTS AND THE HUMANITIES

National Endowment for the Arts

Arts Advisory Panel Meetings

AGENCY: National Endowment for the Arts.

ACTION: Notice of meetings.

SUMMARY: Pursuant to the Federal Advisory Committee Act, as amended, notice is hereby given that 21 meetings of the Arts Advisory Panel to the National Council on the Arts will be held by teleconference or videoconference.

DATES: See the SUPPLEMENTARY INFORMATION section for individual meeting times and dates. All meetings are eastern time and ending times are approximate.

ADDRESSES: National Endowment for the Arts, Constitution Center, 400 7th St. SW, Washington, DC 20506.

FOR FURTHER INFORMATION CONTACT: Further information with reference to these meetings can be obtained from David Travis, Office of Guidelines & Panel Operations, National Endowment for the Arts, Washington, DC 20506; travisd@arts.gov, or call 202-682-5001.

SUPPLEMENTARY INFORMATION: The closed portions of meetings are for the purpose of Panel review, discussion, evaluation, and recommendations on financial assistance under the National Foundation on the Arts and the Humanities Act of 1965, as amended, including information given in confidence to the agency. In accordance with the determination of the Chair of March 11, 2022, these sessions will be closed to the public pursuant to 5 U.S.C. 10.

The upcoming meetings are:

Musical Theater (review of applications): This meeting will be closed.

Date and time: July 9, 2024; 1:00 p.m. to 3:00 p.m.

Theater (review of applications): This meeting will be closed.

Date and time: July 9, 2024; 4:00 p.m. to 6:00 p.m.

Museums (review of applications): This meeting will be closed.

Date and time: July 10, 2024; 11:30 a.m. to 1:30 p.m.

Museums (review of applications): This meeting will be closed.

Date and time: July 10, 2024; 2:30 p.m. to 4:30 p.m.

Theater (review of applications): This meeting will be closed.

Date and time: July 11, 2024; 1:00 p.m. to 3:00 p.m.

Museums (review of applications): This meeting will be closed.

Date and time: July 11, 2024; 2:30 p.m. to 4:30 p.m.

Theater (review of applications): This meeting will be closed.

Date and time: July 11, 2024; 4:00 p.m. to 6:00 p.m.

Arts Education (review of applications): This meeting will be closed.

Date and time: July 12, 2024; 11:30 a.m. to 1:30 p.m.

Arts Education (review of applications): This meeting will be closed.

Date and time: July 12, 2024; 2:30 p.m. to 4:30 p.m.

Theater (review of applications): This meeting will be closed.

Date and time: July 16, 2024; 1:00 p.m. to 3:00 p.m.

Theater (review of applications): This meeting will be closed.

Date and time: July 16, 2024; 4:00 p.m. to 6:00 p.m.

Theater (review of applications): This meeting will be closed.

Date and time: July 18, 2024; 1:00 p.m. to 3:00 p.m.

Theater (review of applications): This meeting will be closed.

Date and time: July 18, 2024; 4:00 p.m. to 6:00 p.m.

Research Grants in the Arts (review of applications): This meeting will be closed.

Date and time: July 23, 2024; 10:00 a.m. to 12:00 p.m.

Research Grants in the Arts (review of applications): This meeting will be closed.

Date and time: July 23, 2024; 1:00 p.m. to 3:00 p.m.

Musical Theater (review of applications): This meeting will be closed.

Date and time: July 25, 2024; 1:00 p.m. to 3:00 p.m.

Research Grants in the Arts (review of applications): This meeting will be closed.

Date and time: July 26, 2024; 10:00 a.m. to 12:00 p.m.

Research Grants in the Arts (review of applications): This meeting will be closed.

Date and time: July 26, 2024; 2:00 p.m. to 4:00 p.m.

Research Grants in the Arts (review of applications): This meeting will be closed.

Date and time: July 29, 2024; 2:00 p.m. to 4:00 p.m.

Folk & Traditional Arts (review of applications): This meeting will be closed.

Date and time: July 30, 2024; 2:00 p.m. to 4:00 p.m.

Folk & Traditional Arts (review of applications): This meeting will be closed.

Date and time: July 31, 2024; 2:00 p.m. to 4:00 p.m.

Dated: May 30, 2024.
David Travis,
Specialist, National Endowment for the Arts.

[FR Doc. 2024-12243 Filed 6-3-24; 8:45 am]

BILLING CODE 7537-01-P